DEPARTMENT OF HOMELAND SECURITY

U.S. Customs and Border Protection

[CBP Dec. No. 13-14]

Expansion of Global Entry Eligibility to Certain Citizens of the Republic Of Korea, the Federal Republic of Germany, the State of Qatar, and the United Kingdom

AGENCY: U.S. Customs and Border Protection; Department of Homeland Security.

ACTION: General notice.

SUMMARY: U.S. Customs and Border Protection (CBP) has established the Global Entry international trusted traveler program at most major U.S. airports. Global Entry allows pre-approved, low-risk participants expedited entry into the United States using Global Entry kiosks located at designated airports. Currently, eligibility for participation in Global Entry is limited to U.S. citizens, U.S. nationals, U.S. lawful permanent residents, Mexican nationals, and certain eligible citizens of the Netherlands. This document announces that CBP is expanding eligibility for Global Entry to include citizens of the Republic of Korea who are participants in the Smart Entry System (SES), a trusted traveler program in the Republic of Korea; a limited number of citizens of the Federal Republic of Germany who are participants in the Automated and Biometrics-Supported Border Controls (ABG) Plus, a trusted traveler program in the Federal Republic of Germany; a limited number of citizens of the State of Qatar; and a limited number of citizens of the United Kingdom who frequently travel to the United States. All of these individuals must otherwise satisfy the requirements for participation in the Global Entry program. CBP expects at some later point to expand eligibility to include all citizens of the Federal Republic of Germany, all citizens of the State of Qatar and all citizens of the United Kingdom who otherwise satisfy the requirements for participation in the Global Entry program. Additionally, this document announces that U.S. citizens who participate in Global Entry will have the option to apply for membership in the Republic of Korea's SES program and that a limited number of U.S. citizens who participate in Global Entry will have the option to apply for membership in Germany's ABG Plus.

DATES: The expansion of eligibility to qualified citizens of the Republic of Korea, a limited number of citizens of the Federal Republic of Germany, a limited number of citizens of the State of Qatar, and a limited number of citizens of the United Kingdom will occur on August 9, 2013. Applications will be accepted from qualified citizens of the Republic of Korea, a limited number of citizens of the Federal Republic of Germany, a limited number of citizens of the State of Qatar, and a limited number of citizens of the United Kingdom beginning August 9, 2013.

FOR FURTHER INFORMATION CONTACT: Larry Panetta, Office of Field Operations, (202) 344-1253, Larry.Panetta@dhs.gov.

SUPPLEMENTARY INFORMATION:

Background

Global Entry Program

Global Entry is a voluntary program that allows for the expedited clearance of pre-approved, low-risk travelers arriving in the United States at Global Entry kiosks located at designated airports. CBP issued the final rule that promulgated the regulation to establish Global Entry as an ongoing voluntary regulatory program in the Federal Register (77 FR 5681) on February 6, 2012. The final rule contains a detailed description of the program, the eligibility criteria, the application and selection process, and the initial airport locations. See 8 CFR 235.12. Travelers who wish to participate in Global Entry must apply via the Global On-Line Enrollment System (GOES) Web site, https://goes-app.cbp.dhs.gov, with the exception of the citizens of the Republic of Korea. The Global Entry application process for citizens of the Republic of Korea is described in the section entitled “The Republic of Korea.” Applications for Global Entry must be completed and submitted electronically.

Eligibility for participation in Global Entry is limited to U.S. citizens, U.S. nationals, U.S. lawful permanent residents, and certain nonimmigrant aliens from countries that have entered into arrangements with CBP regarding international trusted traveler programs. Specifically, the regulation provides that certain nonimmigrant aliens from countries that have entered into arrangements with CBP concerning international trusted traveler programs may be eligible to apply for participation in Global Entry after CBP announces the arrangement by publication of a notice in the Federal Register. The notice will include the country, the scope of eligibility of nonimmigrant aliens from that country (e.g., whether only citizens of the foreign country or citizens and non-citizens are eligible) and other conditions that may apply based on the terms of the arrangement. See 8 CFR 235.12(b)(1)(ii). In the preamble of the Global Entry final rule, CBP recognized the existence of previous arrangements it had with Mexico and the Netherlands regarding the international trusted traveler programs and announced that Mexican nationals and certain citizens of the Netherlands were eligible to apply for the Global Entry program. It further specified that Mexican nationals and citizens of the Netherlands who were existing participants in the Global Entry pilot would be automatically enrolled in the ongoing Global Entry program.

This document announces further expansion of the Global Entry trusted traveler program.

The Republic Of Korea

On April 21, 2011, the U.S. Department of Homeland Security, CBP and the Republic of Korea-Ministry of Justice, Korea Immigration Service (KIS) signed a Joint Statement regarding the development of an initiative involving their respective international trusted traveler programs. Based on this Joint Statement, CBP is announcing that citizens of the Republic of Korea with Korean passports who participate in the Smart Entry System (SES), a trusted traveler program in the Republic of Korea maintained by KIS, are eligible to apply for participation in Global Entry. The application procedure for eligible Korean citizens is different from the usual Global Entry application procedure. These applicants will apply through an online application maintained by KIS and then set up a GOES account to pay the requisite, non-refundable Global Entry fee, and to schedule an interview with CBP.

Eligible Korean citizens will be permitted to participate in Global Entry only upon successful completion of a thorough risk assessment by both CBP and KIS and completion of an interview with CBP. The vetting criteria were mutually agreed upon and are consistent with each agency's applicable domestic laws and policies.

CBP will notify the applicants regarding whether or not they have been accepted into Global Entry. More information about how to apply is available at www.globalentry.gov.

U.S. Citizens' Participation in the Smart Entry System (SES)

Pursuant to the Joint Statement, U.S. citizens who are Global Entry participants or U.S. citizens who can utilize Global Entry kiosks as NEXUS or SENTRI participants have the option to apply for SES membership. SES is a trusted traveler program in the Republic of Korea that provides expedited entry into the country via the use of eGates, a system that uses fingerprints and facial recognition for biometric verification of the individual's identity. All U.S. citizen applicants must apply for SES through the GOES Web site, be thoroughly vetted by both CBP and KIS, and be interviewed by KIS to complete the enrollment process. U.S. citizen applicants are required to pay the SES fee at the time of the interview with KIS and may need to provide KIS with additional information and biometrics (in addition to the information already required by Global Entry) at the time of the interview. KIS will notify CBP whether the U.S. citizen applicant is approved, and CBP will notify the applicant. U.S. citizens may enter the Republic of Korea using SES at the Incheon International Airport or the Kimpo International Airport. More information about how to apply for SES membership is available at http://www.globalentry.gov.

The Federal Republic of Germany

On April 14, 2010, the U.S. Department of Homeland Security, CBP and the Federal Ministry of the Interior of the Federal Republic of Germany signed a Joint Declaration regarding the development of an initiative involving their respective international trusted traveler programs, the Global Entry/Automated and Biometrics-Supported Border Controls (ABG) Plus program. Based on this Joint Declaration, CBP is announcing that certain citizens of the Federal Republic of Germany who participate in ABG Plus, a trusted traveler program in the Federal Republic of Germany, are eligible to apply for participation in this Global Entry limited pilot program. Citizens of the Federal Republic of Germany who have been identified as potentially eligible for initial participation will receive a promotional code and information about the program from the German government. These individuals will be required to complete the online application located on the GOES Web site, enter the code during the application process, pay the non-refundable Global Entry fee, and satisfy all the requirements of Global Entry.

These applicants will be permitted to participate in Global Entry only upon successful completion of a thorough risk assessment by both CBP and the German Federal Police and completion of an interview with CBP. The vetting criteria were mutually agreed upon and are consistent with each agency's applicable domestic laws and policies. CBP will notify the applicants regarding whether or not they have been accepted into Global Entry.

Limiting the number of citizens of the Federal Republic of Germany who can apply for Global Entry at this time allows for the development of the program's infrastructure. CBP expects to be able to expand eligibility to apply for Global Entry to include all citizens of the Federal Republic of Germany in the near future. CBP will announce such expansion by notice in the Federal Register and on http://www.globalentry.gov.

U.S. Citizens' Participation in ABG Plus

Consistent with the Joint Declaration, a limited number of U.S. citizens who are Global Entry participants or U.S. citizens who can utilize Global Entry kiosks as NEXUS or SENTRI participants have the option to apply for participation in ABG Plus. Potentially eligible persons will receive a notice from CBP indicating that they are eligible to apply for participation in ABG Plus and describing the means by which they should apply. Although ABG Plus is only open to a limited number of U.S. citizens at this time to allow for the development of the program's infrastructure, the Federal Republic of Germany expects to be able to expand eligibility to include all U.S. citizens who are Global Entry participants in the near future. More information about such an expansion will be posted at http://www.globalentry.gov once ABG Plus is more broadly available.

The State of Qatar

On December 4, 2011, the U.S. Department of Homeland Security, CBP and the Ministry of Interior of the State of Qatar signed the Plan for the Application of the Immigration Advisory Program and the Global Entry Program (“Plan”) regarding the development of an initiative involving their respective international trusted traveler programs and the development of a Qatari trusted traveler program. Based on this Plan, CBP is announcing that certain citizens of the State of Qatar are eligible to apply for participation in Global Entry. Persons who have been identified as potentially eligible for initial participation in this limited pilot program will receive information about the program from the Qatari government. In order to participate, citizens of the State of Qatar who are invited to apply for Global Entry will be required to complete the online application located on the GOES Web site, pay the non-refundable Global Entry fee, and satisfy all the requirements of Global Entry.

These applicants will be permitted to participate in Global Entry only upon successful completion of a thorough risk assessment by both CBP and the Qatari Ministry of Interior and completion of an interview with CBP. The vetting criteria have been mutually agreed upon by both agencies and are consistent with each agency's applicable domestic laws and policies. CBP will notify the applicants regarding whether or not they have been accepted into Global Entry.

Although CBP is expanding Global Entry to permit a limited number of citizens of the State of Qatar to apply for Global Entry at this time to allow for the development of the program's infrastructure, CBP expects to be able to expand eligibility to apply for Global Entry to include all citizens of the State of Qatar in the near future. CBP will announce such expansion by notice in the Federal Register and on http://www.globalentry.gov.

U.S. Citizens' Participation in the State of Qatar's Trusted Traveler Program

Consistent with the Plan, U.S. citizens and lawful permanent residents who participate in Global Entry or can utilize Global Entry kiosks as NEXUS or SENTRI participants will have the option to apply for participation in Qatar's trusted traveler program, once such a program is established. Once the program is established, CBP plans to announce it on CBP's Web site at http://www.globalentry.gov.

The United Kingdom

On June 24, 2008, the U.S. Department of Homeland Security, CBP and the United Kingdom Home Office, United Kingdom Border Agency of Great Britain and Northern Ireland (United Kingdom Border Agency) signed a Joint Statement regarding the development of an international trusted traveler program, referred to as the International Expedited Travellers (IET) Initiative. The IET Initiative is intended to offer expedited travel for low-risk citizens of the United Kingdom into the United States and low-risk U.S. citizens into the United Kingdom, who meet the program requirements, including the successful completion of a thorough risk assessment by both CBP and the United Kingdom Border Agency.

In furtherance of the IET Initiative, CBP is expanding eligibility to apply for participation in Global Entry to include certain citizens of the United Kingdom. The term “citizens of the United Kingdom” as used in the Joint Statement and this notice refers to citizens of England, Northern Ireland, Scotland and Wales. In order to allow for the development of the program's infrastructure, the application process will initially be open to only a limited number of citizens of the United Kingdom who frequently travel to the United States. Persons who have been identified as potentially eligible for initial participation receive a CBP promotional code and information about the program from a British airline carrier, the U.S. Embassy, or CBP. In order to participate, those individuals will be required to complete the online application located on the GOES Web site, pay the non-refundable Global Entry fee, and satisfy all the requirements of Global Entry, including an in-person interview with CBP. These applicants will be required to enter the code during the application process. The code must be used within the specified time period and can only be used once. Citizens of the United Kingdom also must obtain a police certificate to be presented to a CBP officer at the time of the interview to demonstrate that they have no criminal history.

Applicants will be permitted to participate in Global Entry only upon successful completion of a thorough risk assessment by both CBP and the United Kingdom Border Agency and completion of an interview with CBP. The vetting criteria have been mutually agreed upon by both agencies and are consistent with applicable domestic laws and policies. CBP will notify the applicants regarding whether or not they have been accepted into Global Entry.

Although CBP is expanding Global Entry to permit a limited number of citizens of the United Kingdom to apply for Global Entry at this time to allow for the development of the program's infrastructure, CBP expects to be able to expand eligibility to apply for Global Entry to include all British citizens in the near future. CBP will announce such expansion by notice in the Federal Register and on http://www.globalentry.gov.

U.S. Citizens' Participation in the United Kingdom's Trusted Traveler Program

Consistent with the Joint Statement, U.S. citizens who participate in Global Entry or U.S. citizens who can utilize Global Entry kiosks as NEXUS or SENTRI participants will have the option to apply for participation in the United Kingdom's trusted traveler program, once such a program is established. Once the program is established, CBP plans to announce it on CBP's Web site at http://www.globalentry.gov.

General Eligibility To Participate In Global Entry

For all Global Entry applicants, including applicants from the Republic of Korea, the Federal Republic of Germany, the State of Qatar, and the United Kingdom, the following general eligibility standards apply. An individual who is inadmissible to the United States under U.S. immigration law is ineligible to participate in Global Entry. Applications from such individuals will automatically be rejected. Applications for Global Entry may also be rejected if the applicant has ever been convicted of a criminal offense, or if the individual has ever been found in violation of customs or immigration laws, or of any criminal law. Additionally, an applicant will not be accepted for participation in Global Entry if CBP determines that the applicant presents a potential risk of terrorism, or criminality (including smuggling), or if CBP cannot sufficiently determine that the applicant meets all the program eligibility criteria. The eligibility criteria are set forth in more detail in the Global Entry final rule and 8 CFR 235.12. See also http://www.globalentry.gov.

Dated: July 31, 2013.
David J. Murphy,
Acting Assistant Commissioner, Office of Field Operations.

[FR Doc. 2013-18775 Filed 8-8-13; 8:45 am]

BILLING CODE 9111-14-P